DEPARTMENT OF AGRICULTURE

Food Safety and Inspection Service

[Docket No. 01-039N2]

Notice of Request for New Information Collection Regarding Consumer Practices, Concerns, and Awareness Specific to Meat, Poultry, and Egg Products

AGENCY: Food Safety and Inspection Service, USDA.

ACTION: Notice and request for comments.

SUMMARY: In accordance with the Paperwork Reduction Act of 1995 and the Office of Management and Budget (OMB) regulations, this notice announces the Food Safety and Inspection Service's (FSIS) intention to request information collection regarding consumer food safety practices, concerns, and awareness, specific to meat, poultry, and egg products. Also, in this same issue of the Federal Register, FSIS is publishing a notice of request for new information collection regarding industry practices specific to meat, poultry, and egg products.

DATES: Comments on this notice must be received on or before August 26, 2002.

ADDITIONAL INFORMATION OR COMMENTS: Contact Lee Puricelli, Paperwork Specialist, Food Safety and Inspection Service, USDA, 300 12th Street, SW., Room 109, Washington, DC 20250-3700, (202) 720-0346.

SUPPLEMENTARY INFORMATION: Title: Consumer Data to Support Risk Assessments, Regulation Development, and Food Safety Education Initiatives.

Expiration Date of Approval: 3 years.

Type of Request: Regular.

Abstract: FSIS has been delegated the authority to exercise the functions of the Secretary as provided in the Federal Meat Inspection Act (FMIA) (21 U.S.C. 601 et seq.), the Poultry Products Inspection Act (PPIA) (21 U.S.C. 451, et seq.), and the Egg Products Inspection Act (EPIA) (21 U.S.C. 1031-1056). These statutes provide that FSIS is to protect the public by ensuring that meat, poultry, and egg products are safe, wholesome, unadulterated, and properly labeled and packaged.

To accomplish this objective, several program areas within FSIS need consumer data. The Office of Public Health and Science (OPHS) needs consumer behavior data for food safety risk assessments. The Office of Policy, Program Development, and Evaluation (OPPDE) needs data on consumer practices and expectations for regulatory impact analyses and policy development. The Food Safety Education and Communications Staff needs data on consumer knowledge and behavior to identify food safety education needs and to develop and evaluate educational campaigns. Since FSIS now works in a risk analysis policy framework, the timeliness and comprehensiveness of consumer data is increasingly important to achieve the Agency goal of protecting the public health by significantly reducing the prevalence of foodborne hazards from meat, poultry, and egg products.

To meet the Agency's need for timely consumer data related to meat, poultry, and egg products, FSIS has considered three options: (1) Depending on other recurring government surveys, (2) conducting surveys via the Internet, and (3) conducting probability web-enabled panel surveys. The first option, adding questions to other recurring government surveys, is not feasible because FSIS requires specific consumer data obtained in a timely manner. These surveys usually occur only periodically and limit the content and quantity of questions that FSIS may add. The second option, Internet surveys, does not provide statistically valid results that are representative of the U.S. population. The third option, web-enabled panel surveys, is the best option because it has the speed of Internet surveys, but, unlike Internet surveys, it is based on true probability sampling and is a research method that produces reliable information for decision-making.

FSIS is requesting OMB approval of a new Information Collection Request to conduct consumer surveys that use the web-enabled panel survey methodology. Specifically, the initial survey will include questions on:

• How consumers store, handle, and prepare specific meat, poultry, and egg products;

• How well consumers understand and follow the 4 Fight BAC!™ food safety messages and other safe food handling instructions;

• Consumers' expectations and concerns regarding labeling; and

• Consumers' awareness of food safety rules related to residues.

Estimate of Burden: The public reporting burden for this collection of information is estimated to average .25 hours (15 minutes) per response.

Respondents: Adult household food preparers in the United States who prepare meat or poultry products at least three times a week.

Estimated Number of Respondents: 2400.

Estimated Number of Responses per Respondent: 1.

Estimated Total Annual Burden on Respondents: 600 hours.

Copies of this information collection assessment can be obtained from Lee Puricelli. See ADDITIONAL INFORMATION OR COMMENTS.

Comments are invited on: (a) Whether the proposed collection of information is necessary for the proper performance of FSIS' functions, including whether the information will have practical utility; (b) the accuracy of FSIS' estimate of the burden of the proposed collection of information, including the validity of the methodology and assumptions used; (c) ways to enhance the quality, utility, and clarity of the information to be collected; and (d) ways to minimize the burden of the collection of information on those who are to respond, including through use of appropriate automated, electronic, mechanical, or other technological collection techniques, or other forms of information technology. Comments may be sent to both Lee Puricelli at the address provided above, and the Desk Officer for Agriculture, Office of Information and Regulatory Affairs, Office of Management and Budget, Washington, DC 20253.

All responses to this notice will be summarized and included in the request for OMB approval. All comments will also become a matter of public record.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS web page located at http://www.fsis.usda.gov. The update is used to provide information regarding FSIS policies, procedures, regulations, Federal Register notices, FSIS public meetings, recalls, and any other types of information that could effect or would be of interest to our constituents/stakeholders. The constituent Listserv consists of industry, trade, and farm groups, consumer interest groups, allied health professionals, scientific professionals, and other individuals that have requested to be included. Through the Listserv and web page, FSIS is able to provide information to a much broader, more diverse audience.

For more information contact the Congressional and Public Affairs Office, at (202) 720-9113. To be added to the free e-mail subscription service (Listserv) go to the “Constituent Update” page on the FSIS web site at http://www.fsis.usda.gov/oa/update/update.htm. Click on the “Subscribe to the Constituent Update Listserv” link, then fill out and submit the form.

Done at Washington, DC, on: May 31, 2002.
William J. Hudnall,
Acting Administrator.

[FR Doc. 02-16193 Filed 6-26-02; 8:45 am]

BILLING CODE 3410-DM-P